DEPARTMENT OF HOMELAND SECURITY

Federal Emergency Management Agency

[Docket ID FEMA-2012-0003; Internal Agency Docket No. FEMA-B-1262]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
Alabama:
Baldwin | City of Gulf Shores (12-04-2462P) | The Honorable Robert S. Craft, Mayor, City of Gulf Shores, P.O. Box 299, Gulf Shores, AL 36547 | Community Development Department, 1905 West 1st Street, Gulf Shores, AL 36547 | http://www.bakeraecom.com/index.php/alabama/baldwin/ | August 13, 2012 | 015005
Mobile | City of Mobile (12-04-0822P) | The Honorable Samuel L. Jones, Mayor, City of Mobile, P.O. Box 1827, Mobile, AL 36633 | City Hall, Engineering Department, 205 Government Street, 3rd Floor, Mobile, AL 36644 | http://www.bakeraecom.com/index.php/alabama/mobile/ | August 15, 2012 | 015007
Mobile | City of Saraland (11-04-6989P) | The Honorable Howard Rubenstein, Mayor, City of Saraland, 716 Saraland Boulevard South, Saraland, AL 36571 | City Hall, 716 Saraland Boulevard South, Saraland, AL 36571 | http://www.bakeraecom.com/index.php/alabama/mobile/ | August 9, 2012 | 010171
Mobile | Unincorporated areas of Mobile County (11-04-6989P) | The Honorable Connie Hudson, President, Mobile County Board of Commissioners, P.O. Box 1443, Mobile, AL 36633 | Mobile County Government Plaza, Engineering Department, 205 Government Street, 3rd Floor, South Tower, Mobile, AL 36644 | http://www.bakeraecom.com/index.php/alabama/mobile/ | August 9, 2012 | 015008
Mobile | Unincorporated areas of Mobile County (11-04-6442P) | The Honorable Connie Hudson, President, Mobile County Board of Commissioners, P.O. Box 1443, Mobile, AL 36633 | Mobile County Government Plaza, Engineering Department, 205 Government Street, 3rd Floor, South Tower, Mobile, AL 36644 | http://www.bakeraecom.com/index.php/alabama/mobile/ | September 7, 2012 | 015008
Arizona:
Maricopa | City of Tempe (11-09-3942P) | The Honorable Hugh Hallman, Mayor, City of Tempe, P.O. Box 5002, Tempe, AZ 85280 | City Hall, Engineering Department, 31 East 5th Street, Tempe, AZ 85281 | http://www.r9map.org/Docs/11-09-3942P-040054-102IAC.pdf | August 10, 2012 | 040054
Maricopa | Town of Guadalupe (11-09-3942P) | The Honorable Alma Yolanda Solarez, Mayor, Town of Guadalupe, 9241 South Avenida Del Yaqui, Guadalupe, AZ 85283 | Town Hall, 9050 South Avenida Del Yaqui, Guadalupe, AZ 85283 | http://www.r9map.org/Docs/11-09-3942P-040111-102IAC.pdf | August 10, 2012 | 040111
Maricopa | Town of Wickenburg (11-09-3181P) | The Honorable Kelly Blunt, Mayor, Town of Wickenburg, 155 North Tegner Street, Suite A, Wickenburg, AZ 85390 | Town Hall, 155 North Tegner Street, Wickenburg, AZ 85390 | http://www.r9map.org/Docs/11-09-3181P-040056-102IAC.pdf | August 24, 2012 | 040056
Maricopa | Town of Wickenburg (12-09-0272P) | The Honorable Kelly Blunt, Mayor, Town of Wickenburg, 155 North Tegner Street, Suite A, Wickenburg, AZ 85390 | Town Hall, 155 North Tegner Street, Wickenburg, AZ 85390 | http://www.r9map.org/Docs/12-09-0272P-040056-102IAC.pdf | August 10, 2012 | 040056
Maricopa | Unincorporated areas of Maricopa County (11-09-3942P) | The Honorable Max W. Wilson, Chairman, Maricopa County Board of Supervisors, 301 West Jefferson, 10th Floor, Phoenix, AZ 85003 | Maricopa County Flood Control District, 2801 West Durango Street, Phoenix, AZ 85009 | http://www.r9map.org/Docs/11-09-3942P-040037-102IAC_1.pdf | August 10, 2012 | 040037
Maricopa | Unincorporated areas of Maricopa County (11-09-3181P) | The Honorable Max W. Wilson, Chairman, Maricopa County Board of Supervisors, 301 West Jefferson, 10th Floor, Phoenix, AZ 85003 | Maricopa County Flood Control District, 2801 West Durango Street, Phoenix, AZ 85009 | http://www.r9map.org/Docs/11-09-3181P-040037-102IAC.pdf | August 24, 2012 | 040037
Pima | Unincorporated areas of Pima County (12-09-0547P) | The Honorable Ramon Valadez, Chairman, Pima County Board of Supervisors, 130 West Congress Street, 11th Floor, Tucson, AZ 85701 | 97 East Congress Street, 3rd Floor, Tucson, AZ 85701 | http://www.r9map.org/Docs/12-09-0547P-040073-102IC.pdf | September 4, 2012 | 040073
Yavapai | Town of Prescott Valley (11-09-1612P) | The Honorable Harvey C. Skoog, Mayor, Town of Prescott Valley, 7501 East Civic Circle, Prescott Valley, AZ 86314 | Town Hall, Engineering Division, 7501 East Civic Circle, Prescott Valley, AZ 86314 | http://www.r9map.org/Docs/11-09-1612P-040121-102IAC.pdf | September 7, 2012 | 040121
Yavapai | Unincorporated areas of Yavapai County (11-09-1612P) | The Honorable Thomas Thurman, Chairman, Yavapai County Board of Supervisors, 10 South 6th Street, Cottonwood, AZ 86326 | Yavapai County Flood Control District, 500 South Marina Street, Prescott, AZ 86303 | http://www.r9map.org/Docs/11-09-1612P-040093-102IAC.pdf | September 7, 2012 | 040093
Arkansas: Benton | City of Bella Vista (11-06-4526P) | The Honorable Frank E. Anderson, Mayor, City of Bella Vista, P.O. Box 5655, Bella Vista, AR 72714 | 406 Town Center East, Bella Vista, AR 72714 | http://www.rampp-team.com/lomrs.htm | August 23, 2012 | 050511
California:
Los Angeles | Unincorporated areas of Los Angeles County (12-09-0924P) | The Honorable Zev Yaroslavsky, Chairman, Los Angeles County Board of Supervisors, 500 West Temple Street, Room 821, Los Angeles, CA 90012 | Los Angeles County Department of Public Works, 900 South Fremont Avenue, Alhambra, CA 91803 | http://www.r9map.org/Docs/12-09-0924P-065043-102IAC.pdf | August 13, 2012 | 065043
Riverside | Unincorporated areas of Riverside County (12-09-1186P) | The Honorable John F. Tavaglione, Chairman, Riverside County Board of Supervisors, P.O. Box 1646, Riverside, CA 92502 | Riverside County Flood Control and Water Conservation District, 1995 Market Street, Riverside, CA 92502 | http://www.r9map.org/Docs/12-09-1186P-060245-102IAC.pdf | August 20, 2012 | 060245
San Diego | City of San Diego (12-09-0919P) | The Honorable Jerry Sanders, Mayor, City of San Diego, 202 C Street, 11th Floor, San Diego, CA 92101 | Development Services Center, 1222 1st Avenue, 3rd Floor, San Diego, CA 92101 | http://www.r9map.org/Docs/12-09-0919P-060295-102IAC.pdf | August 24, 2012 | 060295
San Diego | City of San Diego (12-09-1244P) | The Honorable Jerry Sanders, Mayor, City of San Diego, 202 C Street, 11th Floor, San Diego, CA 92101 | Development Services Center, 1222 1st Avenue, 3rd Floor, San Diego, CA 92101 | http://www.r9map.org/Docs/12-09-1244P-060295-102IAC.pdf | August 20, 2012 | 060295
Santa Barbara | City of Goleta (12-09-0332P) | The Honorable Edward Easton, Mayor, City of Goleta, 130 Cremona Drive, Suite B, Goleta, CA 93117 | City Hall, 130 Cremona Drive, Goleta, CA 93117 | http://www.r9map.org/Docs/12-09-0332P-060771-102IAC.pdf | September 10, 2012 | 060771
Santa Barbara | City of Santa Barbara (11-09-3358P) | The Honorable Helene Schneider, Mayor, City of Santa Barbara, P.O. Box 1990, Santa Barbara, CA 93101 | City Administrator, 735 Anacapa Street, Santa Barbara, CA 93101 | http://www.r9map.org/Docs/11-09-3358P-060335-102IAC.pdf | August 13, 2012 | 060335
Santa Barbara | Unincorporated areas of Santa Barbara County (11-09-3358P) | The Honorable Doreen Farr, Chair, Santa Barbara County Board of Supervisors, 105 East Anapamu Street, Santa Barbara, CA 93101 | Santa Barbara County Public Works, Department, Water Resources Division, Flood, Control and Water Conservation District, 123 East Anapamu Street, Santa Barbara, CA 93101 | http://www.r9map.org/Docs/11-09-3358P-060331-102IAC.pdf | August 13, 2012 | 060331
Santa Barbara | Unincorporated areas of Santa Barbara County (12-09-0332P) | The Honorable Doreen Farr, Chair, Santa Barbara County Board of Supervisors, 105 East Anapamu Street, Santa Barbara, CA 93101 | Santa Barbara County Public Works, Department, Water Resources Division, Flood, Control and Water Conservation District, 123 East Anapamu Street, Santa Barbara, CA 93101 | http://www.r9map.org/Docs/12-09-0332P-060331-102IAC.pdf | September 10, 2012 | 060331
Sierra | Unincorporated areas of Sierra County (12-09-0381P) | The Honorable Peter W. Huebner, Chairman, Sierra County Board of Supervisors, 100 Courthouse Square, Suite 11, Downieville, CA 95936 | Sierra County Department of Planning, Sierra Courthouse Annex, 101 Courthouse Square, Downieville, CA 95936 | http://www.r9map.org/Docs/12-09-0381P-060630-102IAC.pdf | September 7, 2012 | 060630
Sierra | Unincorporated areas of Sierra County (12-09-0382P) | The Honorable Peter W. Huebner, Chairman, Sierra County Board of Supervisors, 100 Courthouse Square, Suite 11, Downieville, CA 95936 | Sierra County Department of Planning, Sierra Courthouse Annex, 101 Courthouse Square, Downieville, CA 95936 | http://www.r9map.org/Docs/12-09-0382P-060630-102DA.pdf | August 24, 2012 | 060630
Colorado:
Arapahoe | City of Centennial (12-08-0025P) | The Honorable Cathy Noon, Mayor, City of Centennial, 13133 East Arapahoe Road, Centennial, CO 80112 | Southeast Metro Stormwater Authority, 76 Inverness Drive East, Suite A, Centennial, CO 80112 | http://www.bakeraecom.com/index.php/colorado/arapahoe/ | August 3, 2012 | 080315
Arapahoe | City of Greenwood Village (12-08-0132P) | The Honorable Ron Rakowsky, Mayor, City of Greenwood Village, 6060 South Quebec Street, Greenwood Village, CO 80111 | City Hall, 6060 South Quebec Street, Greenwood Village, CO 80111 | http://www.bakeraecom.com/index.php/colorado/arapahoe/ | August 10, 2012 | 080195
Arapahoe | Unincorporated areas of Arapahoe County (12-08-0025P) | The Honorable Nancy N. Sharpe, Chair, Arapahoe County Board of Commissioners, 5334 South Prince Street, Littleton, CO 80166 | Arapahoe County Public Works and Development, 10730 East Briarwood Avenue, Suite 100, Centennial, CO 80112 | http://www.bakeraecom.com/index.php/colorado/arapahoe/ | August 3, 2012 | 080011
El Paso | City of Colorado Springs (11-08-1101P) | The Honorable Steve Bach, Mayor, City of Colorado Springs, P.O. Box 1575, Mail Code 0601, Colorado Springs, CO 80903 | City Administration, 30 South Nevada Avenue, Colorado Springs, CO 80903 | http://www.bakeraecom.com/index.php/colorado/el-paso/ | August 13, 2012 | 080060
Routt | Unincorporated areas of Routt County (11-08-0639P) | The Honorable Douglas B. Monger, Chairman, Routt County Board of Commissioners, P.O. Box 773598, Steamboat Springs, CO 80477 | Routt County Courthouse, 136 6th Street, Steamboat Springs, CO 80477 | http://www.bakeraecom.com/index.php/colorado/routt/ | September 4, 2012 | 080156
Florida:
Broward | Town of Hillsboro Beach (12-04-2643P) | The Honorable Dan Dodge, Mayor, Town of Hillsboro Beach, 1210 Hillsboro Mile, Hillsboro Beach, FL 33062 | City Hall, 1210 Hillsboro Mile, Hillsboro Beach, FL 33062 | http://www.bakeraecom.com/index.php/florida/broward/ | August 10, 2012 | 120040
Lee | Unincorporated areas of Lee County (11-04-5887P) | The Honorable Frank Mann, Chairman, Lee County Board of Commissioners, P.O. Box 398, Fort Myers, FL 33902 | Lee County Community Development Department, 1500 Monroe Street, 2nd Floor, Fort Myers, FL 33901 | http://www.bakeraecom.com/index.php/florida/lee-5/ | August 10, 2012 | 125124
Manatee | Unincorporated areas of Manatee County (12-04-1509P) | The Honorable John R. Chappie, Chairman, Manatee County Board of Commissioners, P.O. Box 1000, Bradenton, FL 34206 | Manatee County Building Division, Floodplain Section, 2nd Floor, 1112 Manatee Avenue West, Bradenton, FL 34205 | http://www.bakeraecom.com/index.php/florida/manatee/ | August 20, 2012 | 120153
Monroe | Village of Islamorada (12-04-1361P) | The Honorable Michael Reckwerdt, Mayor, Village of Islamorada, 86800 Overseas Highway, Islamorada, FL 33036 | Village Hall, 87000 Overseas Highway, Islamorada, FL 33036 | http://www.bakeraecom.com/index.php/florida/monroe-3/ | August 3, 2012 | 120424
Georgia: Forsyth | Unincorporated areas of Forsyth County (12-04-0122P) | The Honorable Jim Boff, Chairman, Forsyth County Board of Commissioners, 110 East Main Street, Cumming, GA 30040 | 110 East Main Street, Suite 100, Cumming, GA 30040 | http://www.bakeraecom.com/index.php/georgia/forsyth/ | August 3, 2012 | 130312
Kentucky: Fayette | Lexington-Fayette Urban County Government (11-04-7454P) | The Honorable Jim Gray, Mayor, Lexington-Fayette Urban County Government, 200 East Main Street, Lexington, KY 40507 | Lexington-Fayette Urban County Government, Division of Planning, Current Planning Section, 101 East Vine Street, Lexington, KY 40507 | http://www.bakeraecom.com/index.php/kentucky/fayette/ | August 14, 2012 | 210067
Maryland: Montgomery | Town of Poolesville (11-03-2517P) | The Honorable Paul E. Kuhlman, President, Town of Poolesville Commissioners, 19721 Beall Street, Poolesville, MD 20837 | Town Hall, 1910 Fisher Avenue, Suite C, Poolesville, MD 20837 | http://www.rampp-team.com/lomrs.htm | August 23, 2012 | 240118
Nevada: Clark | City of North Las Vegas (12-09-1067P) | The Honorable Shari L. Buck, Mayor, City of North Las Vegas, 2250 Las Vegas Boulevard North, North Las Vegas, NV 89030 | Public Works Department, 2200 Civic Center Drive, North Las Vegas, NV 89030 | http://www.r9map.org/Docs/12-09-1067P-320007-102D.pdf | August 10, 2012 | 320007
New Mexico:
Bernalillo | City of Albuquerque (12-06-0106P) | The Honorable Richard J. Berry, Mayor, City of Albuquerque, P.O. Box 1293, Albuquerque, NM 87103 | 600 2nd Street Northwest, Albuquerque, NM 87102 | http://www.rampp-team.com/lomrs.htm | August 23, 2012 | 350002
Doña Ana | City of Las Cruces (11-06-2357P) | The Honorable Ken Miyagishima, Mayor, City of Las Cruces, 700 North Main Street, Las Cruces, NM 88001 | 700 North Main Street, Las Cruces, NM 88001 | http://www.rampp-team.com/lomrs.htm | August 24, 2012 | 355332
Sandoval | City of Rio Rancho (12-06-0106P) | The Honorable Thomas E. Swisstack, Mayor, City of Rio Rancho, 3200 Civic Center Circle Northeast, Rio Rancho, NM 87144 | 3200 Civic Center Circle Northeast, Rio Rancho, NM 87144 | http://www.rampp-team.com/lomrs.htm | August 23, 2012 | 350146
New York: Westchester | Village of Scarsdale (11-02-2126P) | The Honorable Miriam Levitt Flisser, Mayor, Village of Scarsdale, 1001 Post Road, Scarsdale, NY 10583 | Village Hall, 1001 Post Road, Scarsdale, NY 10583 | https://www.rampp-team.com/lomrs.htm | October 9, 2012 | 360932
North Carolina: Mecklenburg | City of Charlotte (12-04-0261P) | The Honorable Anthony R. Foxx, Mayor, City of Charlotte, 600 East 4th Street, Charlotte, NC 28202 | 700 North Tryon Street, Charlotte, NC 28202 | http://www.bakeraecom.com/index.php/northcarolina/mecklenburg-pmr-2/ | August 27, 2012 | 370159
Oklahoma:
Comanche | City of Lawton (11-06-3319P) | The Honorable Fred L. Fitch, Mayor, City of Lawton, 212 Southwest 9th Street, Lawton, OK 73501 | 103 Southwest 4th Street, Lawton, OK 73501 | http://www.rampp-team.com/lomrs.htm | August 10, 2012 | 400049
Oklahoma | City of The Village (12-06-0066P) | The Honorable C. Scott Symes, Mayor, City of The Village, 2304 Manchester Drive, The Village, OK 73120 | City Hall, 2304 Manchester Drive, The Village, OK 73120 | http://www.rampp-team.com/lomrs.htm | August 13, 2012 | 400420
Pennsylvania: Allegheny | Township of O'Hara (11-03-1924P) | The Honorable Robert John Smith, Council President, Township of O'Hara, 325 Fox Chapel Road, Pittsburgh, PA 15238 | Township Office, 325 Fox Chapel Road, Pittsburgh, PA 15238 | http://www.rampp-team.com/lomrs.htm | August 10, 2012 | 421088
Texas:
Bell | City of Temple (11-06-4085P) | The Honorable William A. Jones, III, Mayor, City of Temple, 2 North Main Street, Temple, TX 76501 | City Hall, 2 North Main Street, Temple, TX 76501 | http://www.rampp-team.com/lomrs.htm | August 13, 2012 | 480034
Bexar | Unincorporated areas of Bexar County (12-06-0468P) | The Honorable Nelson W. Wolff, Bexar County Judge, Paul Elizondo Tower, 101 West Nueva Street, 10th Floor, San Antonio, TX 78205 | Bexar County, Infrastructure Services Department, Public Works Division, 233 North Pecos La Trinidad Street, Suite 420, San Antonio, TX 78207 | http://www.rampp-team.com/lomrs.htm | August 23, 2012 | 480035
Bexar | Unincorporated areas of Bexar County (12-06-1691X) | The Honorable Nelson W. Wolff, Bexar County Judge, Paul Elizondo Tower, 101 West Nueva Street, 10th Floor, San Antonio, TX 78205 | Bexar County, Infrastructure Services Department, Public Works Division, 233 North Pecos La Trinidad Street, Suite 420, San Antonio, TX 78207 | http://www.rampp-team.com/lomrs.htm | August 9, 2012 | 480035
Dallas | City of Duncanville (11-06-3271P) | The Honorable David L. Green, Mayor, City of Duncanville, 203 East Wheatland Road, Duncanville, TX 75116 | City Hall, 203 East Wheatland Road, Duncanville, TX 75116 | http://www.rampp-team.com/lomrs.htm | June 18, 2012 | 480173
Galveston | City of Galveston (11-06-3812P) | The Honorable Joe Jaworski, Mayor, City of Galveston, 823 Rosenberg Street, Galveston, TX 77553 | City Hall, 823 Rosenberg Street, Galveston, TX 77553 | http://www.rampp-team.com/lomrs.htm | August 10, 2012 | 485469
Utah: Davis | City of Layton (12-08-0084P) | The Honorable Steve Curtis, Mayor, City of Layton, 437 North Wasatch Drive, Layton, UT 84041 | Planning Division, 437 North Wasatch Drive, Layton, UT 84041 | http://www.bakeraecom.com/index.php/utah/davis/ | August 13, 2012 | 490047
Virginia:
City of Richmond | City of Richmond (11-03-1762P) | The Honorable Dwight C. Jones, Mayor, City of Richmond, 900 East Broad Street, Suite 201, Richmond, VA 23219 | Department of Public Works, 900 East Broad Street, Room 704, Richmond, VA 23219 | http://www.rampp-team.com/lomrs.htm | August 8, 2012 | 510129
Giles | Town of Narrows (11-03-1175P) | The Honorable H. Clayton Davis, Mayor, Town of Narrows, P.O. Box 440, Narrows, VA 24124 | Town Hall, 131 Center Street, Narrows, VA 24124 | http://www.rampp-team.com/lomrs.htm | August 23, 2012 | 510068
Giles | Unincorporated areas of Giles County (11-03-1175P) | The Honorable Christopher P. McKlarney, Giles County Administrator, 315 North Main Street, Pearisburg, VA 24134 | Giles County Engineering and GIS Departments, 315 North Main Street, Pearisburg, VA 24134 | http://www.rampp-team.com/lomrs.htm | August 23, 2012 | 510067

(Catalog of Federal Domestic Assistance No. 97.022, “Flood Insurance.”)

Dated: August 23, 2012.
Sandra K. Knight,
Deputy Associate Administrator for Mitigation, Department of Homeland Security, Federal Emergency Management Agency.

[FR Doc. 2012-22503 Filed 9-12-12; 8:45 am]

BILLING CODE 9110-12-P